DEPARTMENT OF DEFENSE

Department of the Air Force

Divert Activities and Exercises, Commonwealth of the Northern Mariana Islands

ACTION: Notice of Availability (NOA) Record of Decision (ROD).

SUMMARY: On December 7, 2016, the United States Air Force signed the ROD for the Divert Activities and Exercises, Commenwealth of the Northern Mariana Islands Final Environmental Impact Statement (EIS). This ROD states the Air Force decision is to implement Alternative 2—Modified Tinian Alternative, and specifically the North Option. The decision means that the Air Force will construct the facilities and infrastructure needed to achieve divert capabilities in the western Pacific and conduct military exercises.

The decision was based on matters discussed in the Final EIS; inputs from the public, Federal, the Commonwealth of the Northern Mariana Islands, and local units of government, and regulatory agencies; and other relevant factors. The Final EIS was made available to the public on September 26, 2016 through a NOA in the Federal Register (Volume 81, Page 66013) with a post-filing waiting period that ended on October 26, 2016. This ROD documents only the Air Force decision on the proposed actions analyzed in the Final EIS. Authority: This NOA is published pursuant to the regulations (40 CFR Sec. 1506.6) implementing the provisions of the National Environmental Policy Act of 1969 (42 U.S.C. 4321, et seq.) and the Air Force's Environmental Impact Analysis Process (32 CFR Secs. 989.21(b) and 989.24(b)(7)).

FOR FURTHER INFORMATION CONTACT: Mark Petersen, 25 E Street, C-310, JBPHH, HI 96853, (808) 449-1078.

Henry Williams,
Acting Air Force Federal Register Liaison Officer.

[FR Doc. 2016-30488 Filed 12-19-16; 8:45 am]

BILLING CODE 5001-10-P